DEPARTMENT OF VETERANS AFFAIRS

[OMB Control No. 2900-0018]

Agency Information Collection Activity Under OMB Review: Application for Accreditation as Service Organization Representative

AGENCY: Office of General Counsel, Department of Veterans Affairs.

ACTION: Notice.

SUMMARY: In compliance with the Paperwork Reduction Act (PRA) of 1995, this notice announces that the Office of General Counsel (OGC), Department of Veterans Affairs, will submit the collection of information abstracted below to the Office of Management and Budget (OMB) for review and comment. The PRA submission describes the nature of the information collection and its expected cost and burden and it includes the actual data collection instrument.

DATES: Comments must be submitted on or before November 20, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0018” in any correspondence.

FOR FURTHER INFORMATION CONTACT: Danny S. Green, Enterprise Records Service (005R1B), Department of Veterans Affairs, 810 Vermont Avenue NW, Washington, DC 20420, (202) 421-1354 or email danny.green2@va.gov. Please refer to “OMB Control No. 2900-0018” in any correspondence.

SUPPLEMENTARY INFORMATION:

Authority: 38 U.S.C. 5901, 5902, 5904; 38 CFR 14.629, 14.633.

Title: Application for Accreditation as Service Organization Representative.

OMB Control Number: 2900-0018.

Type of Review: Reinstatement of a previously approved collection.

Abstract: Service organizations are required to file an application with VA to establish eligibility for accreditation for representatives of that organization to represent benefit claimants before VA. VA Form 21 is completed by service organizations to establish accreditation for representatives and recertify the qualifications of accredited representatives.

Organizations requesting cancellation of a representative's accreditation based on misconduct, incompetence, or resignation to avoid cancellation of accreditation based upon misconduct or incompetence are required to inform VA of the specific reason for the cancellation request. VA will use the information collected to determine whether service organizations' representatives continue to meet regulatory eligibility requirements to ensure claimants have qualified representatives to assist in the preparation, presentation and prosecution of their claims for benefits.

An agency may not conduct or sponsor, and a person is not required to respond to a collection of information unless it displays a currently valid OMB control number. The Federal Register Notice with a 60-day comment period soliciting comments on this collection of information was published at: Vol. 84, No. 143, Thursday, July 25, 2019, pages 35929 and 35930.

Affected Public: Individuals, not-for-profit institutions, and state, local, or tribal governments.

Estimated Annual Burden: 1,013 hours (650 hours for new applicants, 350 hours for recertifications, and 13 hours for accreditation cancellation information responses).

Estimated Average Burden per Respondent: 13 minutes (15 minutes for new applicants, 10 minutes for recertifications, and 60 minutes for accreditation cancellation information responses).

Frequency of Response: One time.

Estimated Number of Respondents: 4,713 (2,600 new applicants, 2,100 recertifications, and 13 accreditation cancellation information responses).

By direction of the Secretary.
Danny S. Green,
Interim VA Clearance Officer, Office of Quality, Performance and Risk, Department of Veterans Affairs.

[FR Doc. 2019-22845 Filed 10-18-19; 8:45 am]

BILLING CODE 8320-01-P